DEPARTMENT OF DEFENSE

Defense Threat Reduction Agency

[DOD-2006-05-0055]

Privacy Act of 1974; System of Records

AGENCY: Defense Threat Reduction Agency, DoD.

ACTION: Notice to Delete Systems of Records.

SUMMARY: The Defense Threat Reduction Agency is deleting a system of records notice from its existing inventory of records systems subject to the Privacy Act of 1974. (5 U.S.C. 552a), as amended.

DATES: This proposed action will be effective without further notice on May 3, 2006 unless comments are received which result in a contrary determination.

ADDRESSES: Freedom of Information Act/Privacy Act Officer, Defense Threat Reduction, 8725 John J. Kingman Road, Stop 6201, Fort Belvoir, VA 22060-6201.

FOR FURTHER INFORMATION CONTACT: Ms. Brenda Carter at (703) 325-1205.

SUPPLEMENTARY INFORMATION: The Defense Threat Reduction Agency systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 28, 2006.
L. M. Bynum,
OSD Federal Register Liaison Officer, Department of Defense.

HDTRA 005

System name:

Manpower/Personnel Management System (December 14, 1998, 63 FR 68736).

Reason: The records are contained in systems of records that are maintained by the Office of Personnel Management (OPM), the Defense Finance and Accounting Service (DFAS), and the DoD military departments as follows:

OPM/GOVT-1, General Personnel Records (April 27, 2000, 65 FR 24732)

T7335, Defense Civilian Pay System (DCPS) (May 19, 2000, 65 FR 31888)

T7340, Defense Joint Military Pay System-Active Component (April 12, 1999, 64 FR 17629)

T7346, Defense Joint MIlitary Pay System-Reserve Component (April 12, 1999, 64 FR 17629)

A0600-8-104b, Official Military Personnel Record (August 8, 2004, 69 FR 51271)

N01070-3, Navy Military Personnel Records System (November 16, 2004, 69 FR 67128)

F036 AF PC C, Military Personnel Records System (October 13, 2000, 65 FR 60916)

MMN00006, Marine Corps Military Personnel Records (OQR/SRB) (April 8, 2002, 67 FR 16738)

[FR Doc. 06-3155 Filed 3-31-06; 8:45am]

BILLING CODE 5001-06-M